DEPARTMENT OF COMMERCE

National Oceanic and Atmospheric Administration

RIN 0648-XG533

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that the following stocks are subject to overfishing or overfished. Gulf of Mexico gray snapper is now subject to overfishing. Thorny skate is still overfished. NMFS, on behalf of the Secretary, notifies the appropriate regional fishery management council (Council) whenever it determines that overfishing is occurring, a stock is in an overfished condition or a stock is approaching an overfished condition.

FOR FURTHER INFORMATION CONTACT: Regina Spallone, (301) 427-8568.

SUPPLEMENTARY INFORMATION: Pursuant to section 304(e)(2) of the Magnuson-Stevens Fishery Conservation and Management Act (Magnuson-Stevens Act), 16 U.S.C. 1854(e)(2), NMFS, on behalf of the Secretary, must notify Councils, and publish in the Federal Register, whenever it determines that a stock or stock complex is subject to overfishing, overfished, or approaching an overfished condition.

NMFS has determined that the Gulf of Mexico stock of gray snapper is now subject to overfishing. The most recent benchmark assessment for this stock was finalized in 2018, using data through 2015. The assessment supports a determination that the stock is subject to overfishing because the current estimate of fishing mortality (F2013-2015), 0.138, is greater than the maximum fishing mortality threshold (MFMT), 0.115. NMFS has informed the Gulf of Mexico Fishery Management Council (Gulf Council) that it must prepare and implement a plan amendment or proposed regulations to end overfishing immediately and prevent overfishing from occurring in the fishery. The Gulf Council has already started working on a fishery management plan amendment to address the results of this stock assessment.

NMFS has determined that thorny skate is still overfished. A stock status update was completed for this stock in 2018, using data through 2017. The update supports a determination that the stock remains overfished because the three-year average biomass index (B2015-2017), 0.285kg/tow, is below the biomass threshold, 2.06 kg/tow. Thorny skate is currently in year 15 of a 25-year rebuilding plan that was implemented in 2003. NMFS continues to work with the New England Fishery Management Council to rebuild this stock.

Dated: November 19, 2018.
Karen H. Abrams,
Acting Director, Office of Sustainable Fisheries, National Marine Fisheries Service.

[FR Doc. 2018-25558 Filed 11-21-18; 8:45 am]

BILLING CODE 3510-22-P